DEPARTMENT OF TRANSPORTATION

Federal Aviation Administration

14 CFR Part 71

[Docket No. FAA-2011-0654; Airspace Docket No. 11-AWP-8]

RIN 2120-AA66

Modification of VOR Federal Airways V-135 and V-137; Southwest United States

AGENCY: Federal Aviation Administration (FAA), DOT.

ACTION: Final rule.

SUMMARY: This action modifies VHF omnidirectional range (VOR) Federal airways V-135 and V-137 by extending the airways to the Mexicali, Mexico VOR/DME. This action enhances navigation and air traffic control coordination for aircraft proceeding across the United States—Mexican border.

DATES: Effective date 0901 UTC, May 31, 2012. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

History

On December 21, 2011, the FAA published in the Federal Register a notice of proposed rulemaking (NPRM) to modify V-135 and V-137 in the southwest United States (76 FR 79140). Interested parties were invited to participate in this rulemaking effort by submitting written comments on this proposal to the FAA. Five comments were received.

Two commenters expressed support for the proposal. Three commenters objected to the decommissioning of VORs in the United States. This rule does not involve the decommissioning of any VORs; therefore these comments are outside the scope of this action. However, the comments concerning VORs have been forwarded to the FAA Navigation Services Group for review.

The Rule

The FAA is amending Title 14, Code of Federal Regulations (14 CFR) part 71 to extend two existing VOR Federal airways to the Mexicali, Mexico VOR/DME. V-135 is amended by adding a segment between the Mexicali VOR/DME and the Bard, AZ, VORTAC. V-137 is amended by adding a segment between the Mexicali VOR/DME and the Imperial, CA, VORTAC. These amendments benefit cross-border navigation. Additionally, fixes are established at the border crossing points to simplify the control coordination of flights between air traffic control facilities.

VOR Federal airways are published in paragraph 6010(a) of FAA Order 7400.9V signed August 9, 2011 and effective September 15, 2011, which is incorporated by reference in 14 CFR 71.1. The VOR Federal Airways listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies VOR Federal airways to enhance the efficiency of the National Airspace System in the southwest United States. Except for editorial changes, this rulemaking is the same as published in the NPRM of December 21, 2011.

Environmental Review

The FAA has determined that this action qualifies for categorical exclusion under the National Environmental Policy Act in accordance with FAA Order 1050.1E, Environmental Impacts: Policies and Procedures, paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the FAA Order 7400.9V, Airspace Designations and Reporting Points, signed August 9, 2011, and effective September 15, 2011, is amended as follows:

Paragraph 6010(a) Domestic VOR federal airways

* * * * *

V-135 [Amended]

From Mexicali, Mexico; VIA Bard, AZ; Blythe, CA; Parker, CA; Needles, CA; Goffs, CA; Beatty, NV; INT Beatty 326° and Tonopah, NV, 223° radials; to Tonopah. The airspace within R-4807 and the airspace within Mexico is excluded.

V-137 [Amended]

From Mexicali, Mexico; via Imperial, CA; INT Imperial 350° and Thermal, CA 144° radials; Palm Springs, CA; Palmdale, CA; Gorman, CA; Avenal, CA; Priest, CA; Salinas, CA. The airspace within Mexico is excluded.

Issued in Washington, DC, on April 10, 2012.
Gary A. Norek,
Manager, Airspace, Regulations and ATC Procedures Group.

[FR Doc. 2012-9188 Filed 4-17-12; 8:45 am]

BILLING CODE 4910-13-P